DEPARTMENT OF AGRICULTURE

Agricultural Marketing Service

[Doc. No. AMS-TM-14-0019]

Notice of Request for Extension of a Currently Approved Information Collection for Data Collection for Container Availability

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension without change of a currently approved information collection titled Data Collection for Container Availability.

DATES: Comments on this notice must be received by April 29, 2014 to be assured of consideration.

Additional Information Or Comments: Contact April Taylor, Transportation Services Division, Transportation and Marketing Program, Agricultural Marketing Service, U.S. Department of Agriculture, 1400 Independence Ave. SW.—Room 4534 South, Stop 0266, Washington, DC 20250, telephone 202-295-7374, fax 202-690-2451.

SUPPLEMENTARY INFORMATION: Title: Data Collection for Container Availability.

OMB Number: 0581-0276.

Expiration Date of Approval: September 30, 2014.

Type of Request: Extension without change of a currently approved information collection.

Abstract: The Agricultural Marketing Act of 1946 (7 U.S.C. 1621-1627) directs and authorizes the collection and dissemination of marketing information including adequate outlook information, on a market area basis, for the purpose of anticipating and meeting consumer requirements aiding in the maintenance of farm income and to bring about a balance between production and utilization.

As part of the Agricultural Marketing Service, the Transportation Services Division (TSD) provides insightful agricultural transportation information and analysis to help move agricultural products to market. TSD informs, represents, and assists agricultural shippers and government policymakers through: Market reports, representation, analysis, assistance, and responses to inquiries. TSD collects data for its analysis from public resources as well as unique data sources to help the agricultural exporters make the most out of the transportation options available.

The Data Collection for Container Availability provides U.S. agricultural exporters with weekly data detailing the availability of containers at 18 select locations around the country. AMS collects these data on a voluntary basis from ocean container carriers and then provides these up-to-date data in an aggregate report on its Web site. The goal of the report is to provide more transparency in the market for the location and availability of marine shipping containers for U.S. exporters. Exporters use this tool to make more knowledgeable decisions about which locations provide the best chance for finding available containers to move their products overseas.

Estimate of Burden: Public reporting burden for this collection of information is estimated to average 1.61 hours per response.

Respondents: Ocean Container/Liner Carriers and the Transpacific Stabilization Agreement.

Estimated Number of Respondents: 21.

Estimated Total Annual Responses: 1,092.

Estimated Number of Responses per Respondent: 52.

Estimated Total Annual Burden on Respondents: 1,759.26.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to April Taylor, Transportation Services Division, Transportation and Marketing Program, Agricultural Marketing Service, U.S. Department of Agriculture, 1400 Independence Ave. SW.—Rm 4534 South, Stop 0266, Washington, DC 20250, telephone 202-295-7374, fax 202-690-2451. All comments received will be available for public inspection during regular business hours at the same address.

All responses to this notice will be summarized and included in the request for OMB approval. All comments will become a matter of public record.

Dated: February 18 2014.
Rex A. Barnes,
Associate Administrator, Agricultural Marketing Service.

[FR Doc. 2014-04169 Filed 2-27-14; 8:45 am]

BILLING CODE 3410-02-M